DEPARTMENT OF ENERGY

Federal Energy Regulatory Commission

[Docket No. RP03-256-001]

Honeoye Storage Corporation; Notice of Proposed Change in FERC Gas Tariff

March 6, 2003.

Take notice that on February 28, 2003 Honeoye Storage Corporation (Honeoye) tendered for filing as part of its FERC Gas Tariff, First Revised Volume 1A, a revised tariff sheet to be effective April 1, 2003. The revised tariff sheet is designated as:Second Revised Sheet No. 105 Superseding First Revised Sheet No. 105

Honeoye states that the purpose of the filing is to substitute the above reference tariff sheet to correct an incorrect heading that was contained in its filing made on February 14, 2003. The text of Tariff Sheet No.105 is unchanged. Honeoye states that copies of the filing are being mailed to Honeoye's jurisdictional customers and interested state regulatory agencies.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 11, 2003.

Magalie R. Salas,
Secretary.

[FR Doc. 03-6029 Filed 3-12-03; 8:45 am]

BILLING CODE 6717-01-P